DEPARTMENT OF LABOR

Employment and Training Administration

Solicitation for Grant Applications (SGA); Prisoner Re-Entry Initiative

AGENCY: Employment and Training Administration (ETA), Labor.

ACTION: Notice; additional information and correction.

SUMMARY: The Employment and Training Administration published a document in the Federal Register on April 1, 2005, concerning the availability of grant funds for eligible faith-based and community organizations under the Prisoner Re-Entry Initiative: SGA/DFA PY-04-08. This is to make the following clarifications and corrections to SGA/DFA PY-04-08:

1. The SGA intended that Workforce Investment Boards (WIBs) would have a supportive role in this project rather than be the lead agency, and this is to provide clarification that WIBs are not eligible applicants for this SGA. Further, the requirement for a letter of support from the WIB is intended simply to demonstrate that the WIB will play a supportive role in the project by providing employment services for released prisoners in One-Stop Centers. DOL encourages WIBs to work with any faith-based or community organization (FBCO) that wishes to apply for these grants. FBCOs who have not received a letter from the WIB may instead demonstrate in its proposal the steps that they have taken to secure such a letter.

2. Page 16855 of the SGA indicates that applicants should limit the share of funds for program administration, including technical assistance and oversight, to 10 percent of the amount for which they are applying. We are modifying this to 15 percent of the amount for which you are applying.

3. Page 16859 of the SGA indicates that an FBCO can be listed as a sub-grantee in more than one application, but that they will only be able to receive a sub-grant award from one grant. This was too restrictive and there are instances in which it would be appropriate for an FBCO or other organization to be awarded a sub-grant in two or more grants. The SGA is now modified to allow an FBCO or other organization to receive a sub-grant award in more than one grant.

4. Page 16860 of the SGA indicates that applicants may apply online at http://www.grants.gov. The mandatory form SF 424A has just been added for download. If you have previously downloaded the application package, please download the package again. If you do not download the package with the SF 424A, Grants.gov will reject your application submission with errors.

FOR FURTHER INFORMATION CONTACT: Marsha Daniels, Grants Management Specialist, Division of Federal Assistance, on (202) 693-3504.

Signed at Washington, DC, this 26th day of May, 2005.
Eric D. Luetkenhaus,
Grant Officer.

[FR Doc. E5-2765 Filed 5-31-05; 8:45 am]

BILLING CODE 4510-30-P